DEPARTMENT OF ENERGY

Federal Energy Regulatory Commission

Notice of Application for Non-Project Use of Project Lands and Waters and Soliciting Comments, Motions To Intervene, and Protests

August 20, 2004.

Take notice that the following application has been filed with the Commission and is available for public inspection:

a. Application Type: Non-Project Use Of Project Lands And Waters.

b. Project No: 2413-063.

c. Date Filed: July 15, 2004.

d. Applicant: Georgia Power.

e. Name of Project: Wallace Dam Project.

f. Location: This project is located on the Oconee River in Putnam, Hancock, Greene, Morgan, Oconee, and Oglethorpe Counties, Georgia, and occupies lands of the Oconee National Forest. This project does not occupy any tribal lands.

g. Filed Pursuant to: Federal Power Act, 16 U.S.C. 791 (a) 825(r) and sections 799 and 801.

h. Applicant Contact: Mr. Lee B. Glenn; Lake Resources Manager for Georgia Power; 125 Wallace Dam Road, NE.; Eatonton, Georgia, 31024; 706-485-8704.

i. FERC Contact: Any questions on this notice should be addressed to Andrea Shriver at (202) 502-8171, or by e-mail: andrea.shriver@ferc.gov.

j. Deadline for filing comments and or motions: September 20, 2004.

All documents (original and eight copies) should be filed with: Ms. Magalie R. Salas, Secretary, Federal Energy Regulatory Commission, 888 First Street, NE., Washington DC 20426. Please include the project number (P-2197-068) on any comments or motions filed. Comments, protests, and interventions may be filed electronically via the internet in lieu of paper. See, 18 CFR 385.2001(a)(1)(iii) and the instructions on the Commission's Web site under the “e-Filing” link. The Commission strongly encourages e-filings.

k. Description of Request: Georgia Power is seeking Commission approval to issue a commercial lease to Linger Long Development Corporation for the construction of a private marina on Lake Oconee. The proposed marina would be located on the Richland Creek section of the lake, immediately adjacent to the Armor Bridge Public Boat Ramp. It will be primarily for use of residents within the Reynolds Plantation development, but will also be available for emergency assistance to the general public. This facility will initially include dry-stack storage for 192 boats, and provisions to expand the facility's dry-stack storage capacity to 350 boats. Other facilities at the marina would include a boat ramp, forklift launch, a 24 slip dock and dockside fueling slips. Proposed facilities within the project boundary include a boatlift launch, boat ramp, floating fuel docks and fuel pump, stationary dock, seawall, rip-rap, and portions of a retaining wall. Proposed facilities outside of the project boundary include dry-stack storage, an underground fuel storage unit, and portions of a retaining wall.

l. Location of the Application: This filing is available for review at the Commission or may be viewed on the Commission's Web site at http://www.ferc.gov, using the “eLibrary” link. Enter the docket number excluding the last three digits in the docket number field to access the document. For assistance, contact FERC Online Support at FERCOnlineSupport@ferc.gov or toll-free at (866) 208-3676, or for TTY, contact (202) 502-8659.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding. Any comments, protests, or motions to intervene must be received on or before the specified comment date for the particular application.

o. Filing and Service of Responsive Documents: Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments: Federal, state, and local agencies are invited to file comments on the described applications. A copy of the applications may be obtained by agencies directly from the Applicant. If an agency does not file comments within the time specified for filing comments, it will be presumed to have no comments. One copy of an agency's comments must also be sent to the Applicant's representatives.

Linda Mitry,
Acting Secretary.

[FR Doc. E4-1939 Filed 8-25-04; 8:45 am]

BILLING CODE 6717-01-P